NUCLEAR REGULATORY COMMISSION

[Docket Nos. 50-247 and 50-286]

Indian Point Nuclear Generating Unit Nos. 2 and 3; Notice of Availability of the Draft Supplement 38 to the Generic Environmental Impact Statement for License Renewal of Nuclear Plants and Public Meeting for the License Renewal of Indian Point Nuclear Generating Unit Nos. 2 and 3

Notice is hereby given that the U.S. Nuclear Regulatory Commission (NRC, Commission) has published a draft plant-specific supplement to the Generic Environmental Impact Statement for License Renewal of Nuclear Plants (GEIS), NUREG-1437, regarding the renewal of operating licenses DPR-26 and DPR-64 for an additional 20 years of operation for the Indian Point Nuclear Generating Unit Nos. 2 and 3 (IP2 and IP3). IP2 and IP3 are located in Westchester County in the village of Buchanan, New York, approximately 24 miles north of New York City. Possible alternatives to the proposed action (license renewal) include no action and reasonable alternative energy sources. Draft Supplement 38 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Numbers for draft Supplement 38 to the GEIS are ML083540594 (Volume 1, main report) and ML083540614 (Volume 2, appendices). Persons who do not have access to ADAMS, or who encounter problems in accessing the documents located in ADAMS, should contact the NRC(s PDR reference staff by telephone at 1-800-397-4209 or 301-415-4737, or by e-mail at PDR.Resource@nrc.gov. In addition, the White Plains Public Library (White Plains, NY), Hendrick Hudson Free Library (Montrose, NY), and the Field Library (Peekskill, NY), have agreed to make the draft supplement to the GEIS available for public inspection.

Any interested party may submit comments on the draft supplement to the GEIS for consideration by the NRC staff. To be considered, comments on the draft supplement to the GEIS and the proposed action must be received by March 18, 2009; the NRC staff is able to ensure consideration only for comments received on or before this date. Comments received after the due date will be considered only if it is practical to do so. Written comments on the draft supplement to the GEIS should be sent to: Chief, Rulemaking, Directives and Editing Branch, Division of Administrative Services, Office of Administration, Mailstop T-6D59, U.S. Nuclear Regulatory Commission, Washington, DC 20555-0001.

Comments may be hand-delivered to the NRC at 11545 Rockville Pike, Room T-6D59, Rockville, Maryland 20852, between 7:30 a.m. and 4:15 p.m. on Federal workdays. Electronic comments may be submitted to the NRC by e-mail at IndianPoint.EIS@nrc.gov. All comments received by the Commission, including those made by Federal, State, local agencies, Native American Tribes, or other interested persons, will be made available electronically at the Commission's PDR in Rockville, Maryland, and through ADAMS.

The NRC staff will hold a public meeting to present an overview of the draft plant-specific supplement to the GEIS and to accept public comments on the document. The public meeting will be held on February 12, 2009, at the Colonial Terrace, 119 Oregon Road, Cortlandt Manor, New York 10567. There will be two sessions to accommodate interested parties. The first session will convene at 1:30 p.m. and will continue until 4:30 p.m., as necessary. The second session will convene at 7 p.m. with a repeat of the overview portions of the meeting and will continue until 10 p.m., as necessary. Both meetings will be transcribed and will include: (1) A presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing. Persons may pre-register to present oral comments at the meeting by contacting Mr. Andrew Stuyvenberg, the NRC Environmental Project Manager at 1-800-368-5642, extension 4006, or by e-mail at IndianPoint.EIS@nrc.gov, no later than January 29, 2009. Members of the public may also register to provide oral comments within 15 minutes of the start of each session. Individual, oral comments may be limited by the time available, depending on the number of persons who register. If special equipment or accommodations are needed to attend or present information at the public meeting, the need should be brought to Mr. Stuyvenberg's attention no later than January 26, 2009, to provide the NRC staff adequate notice to determine whether the request can be accommodated.

FOR FURTHER INFORMATION CONTACT: Mr. Stuyvenberg, Projects Branch 2, Division of License Renewal, Office of Nuclear Reactor Regulation, U.S. Nuclear Regulatory Commission, Mail Stop O-11F1, Washington, DC 20555-0001. Mr. Stuyvenberg may be contacted at the aforementioned telephone number or e-mail address.

Dated at Rockville, Maryland, this 22nd day of December, 2008.
For the Nuclear Regulatory Commission.
David J. Wrona,
Branch Chief, Projects Branch 2, Division of License Renewal, Office of Nuclear Reactor Regulation.

[FR Doc. E8-31161 Filed 12-30-08; 8:45 am]

BILLING CODE 7590-01-P